DEPARTMENT OF THE INTERIOR

Bureau of Indian Affairs

[167 A2100DD/AAKC001030/A0A501010.999900]

Sovereignty in Indian Education

AGENCY: Bureau of Indian Affairs, Interior.

ACTION: Notice of availability and request for proposals; extension of deadline.

SUMMARY: The Bureau of Indian Education (BIE) previously announced the availability of enhancement funds to Tribes and their Tribal education departments (TEDs) to promote Tribal control and operation of BIE-funded schools on their reservations. This notice extends the deadline for Tribes with at least one BIE-funded school on their reservation to submit grant proposals.

DATES: Grant proposals must be received by January 13, 2016, at 4 p.m. Eastern Time. The BIE will hold pre-grant proposal training sessions. See SUPPLEMENTARY INFORMATION section for more information.

ADDRESSES: Complete details on requirements for proposals and the evaluation and selection process can be found on the BIE Web site at http://www.bie.edu. Submit grant applications to the Bureau of Indian Education, Attn: Ms. Wendy Greyeyes, 1849 C Street NW., MS-4655-MIB, Washington, DC 20240. Email submissions will be accepted at this address: wendy.greyeyes@bie.edu. Limit email submissions to attachments compatible with Microsoft Office Word 2007 or later and files with a .pdf file extension. Email submissions may not exceed 3MB total in size. Fax submissions will not be accepted.

FOR FURTHER INFORMATION CONTACT: Ms. Wendy Greyeyes, Bureau of Indian Education, Office of the Director, Washington, DC 20240, (202) 208-5810.

SUPPLEMENTARY INFORMATION: See the notice published on December 7, 2015, (80 FR 76031) for background information.

Grant proposals are due January 13, 2016, at 4:00 p.m. Eastern Time. The proposal should be packaged for delivery to permit timely arrival. The proposal package should be sent or hand delivered to the address in the ADDRESSES section of this notice.

Faxed applications will not be accepted. Email submissions will be accepted at the address in the ADDRESSES section of this notice. Email submissions are limited to attachments compatible with Microsoft Office Word 2007 or later or files with a .pdf file extension. Email submissions may not exceed 3MB total in size.

Proposals submitted by Federal Express or Express Mail should be sent two or more days prior to the closing date. The proposal package should be sent to the address shown in the ADDRESSES section of this notice. The Tribe is solely responsible for ensuring its proposal arrives in a timely manner.

Dated: December 18, 2015.
Kevin K. Washburn,
Assistant Secretary—Indian Affairs.

[FR Doc. 2016-00245 Filed 1-8-16; 8:45 am]

BILLING CODE 4337-15-P